DEPARTMENT OF DEFENSE

Office of the Secretary

[Transmittal No. 16-21]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Pam Young, DSCA/SA&E/RAN, (703) 697-9107.

The following is a copy of a letter to the Speaker of the House of Representatives, Transmittal 16-21 with attached Policy Justification and Sensitivity of Technology.

Dated: November 22, 2016.
Aaron Siegel,
Alternate OSD Federal Register Liaison Officer, Department of Defense.

BILLING CODE 5001-06-P

BILLING CODE 5001-06-C

Transmittal No. 16-21

Notice of Proposed Issuance of Letter of Offer Pursuant to Section 36(b)(1) of the Arms Export Control Act, as amended

(i) Prospective Purchaser: Government of Kuwait

(ii) Total Estimated Value:

Major Defense Equipment * | $6.3 billion
Other | 3.8 billion
TOTAL | 10.1 billion

(iii) Description and Quantity or Quantities of Articles or Services under Consideration for Purchase:

Major Defense Equipment (MDE):

Thirty-two (32) F/A-18E aircraft, with F414-GE-400 engines

Eight (8) F/A-18F aircraft, with F414-GE-400 engines

Eight (8) spare F414-GE-400 engines and Twenty-four (24) engine modules

Forty-one (41) AN/APG-79 Active Electronically Scanned Array (AESA) Radars

Forty-four (44) M61A2 20mm Gun Systems

Forty-five (45) AN/ALR-67(V)3 Radar Warning Receivers

Two hundred and forty (240) LAU-127E/A Guided Missile Launchers

Forty-five (45) AN/ALE-47 Airborne Countermeasures Dispenser Systems Twelve (12) AN/AAQ-33 SNIPER Advanced Targeting Pods

Forty-eight (48) Joint Helmet Mounted Cueing Systems (JHMCS)

Forty-five (45) AN/ALQ-214 Radio Frequency Counter-Measures Systems

Forty-five (45) AN/ALE-55 Towed Decoys

Forty-eight (48) Link-16 Systems

Eight (8) Conformal Fuel Tanks

Fourteen (14) AN/ASQ-228 ATFLIR Systems

Non-MDE includes: ARC-210 radio (aircraft), Identification Friend or Foe (IFF) systems, AN/AVS-9 Night Vision Goggles (NVG), Launchers (LAU-115D/A, LAU-116B/A, LAU-l 18A), Command Launch Computer (CLC) for Air to Ground Missile 88 (AGM-88), ANAV/MAGR GPS Navigation, Joint Mission Planning System (JMPS), aircraft spares, Aircraft Armament Equipment (AAE), support equipment, aircrew/maintenance training, contractor engineering technical service, logistics technical services, engineering technical services, other technical assistance, contractor logistics support, flight test services, storage and preservation, aircraft ferry, Repair of Repairable (RoR), support systems and associated logistics, training aides and devices, spares, technical data Engineering Change Proposals, avionics software support, software, technical publications, engineering and program support, U.S. Government and contractor engineering, technical and logistic support services.

(iv) Military Department: Navy (KU-P-SBG)

(v) Prior Related Cases, if any: None

(vi) Sales Commission, Fee, etc., Paid, Offered, or Agreed to be Paid: None

(vii) Sensitivity of Technology Contained in the Defense Article or Defense Services Proposed to be Sold: See Annex Attached.

(viii) Date Report Delivered to Congress: November 17, 2016

* as defined in Section 47(6) of the Arms Export Control Act.

Policy Justification

The Government of Kuwait—F/A-18E/F Super Hornet Aircraft with Support

The Government of Kuwait has requested to purchase thirty-two (32) F/A-18E aircraft, with F414-GE-400 engines; eight (8) F/A-18F aircraft, with F414-GE-400 engines; eight (8) spare F414-GE-400 engines and twenty-four (24) engine modules; forty-one (41) AN/APG-79 Active Electronically Scanned Array (AESA) Radars; forty-four (44) M61A2 20mm Gun Systems; forty-five (45) AN/ALR-67(V)3 Radar Warning Receivers; two hundred and forty (240) LAU-127E/A Guided Missile Launchers; forty-five (45) AN/ALE-47 Airborne Countermeasures Dispenser Systems; twelve (12) AN/AAQ-33 SNIPER Advanced Targeting Pods; forty-eight (48) Joint Helmet Mounted Cueing Systems (JHMCS); forty-five (45) AN/ALQ-214 Radio Frequency Counter-Measures Systems; forty-five (45) AN/ALE-55 Towed Decoys; forty-eight (48) Link-16 Systems; eight (8) Conformal Fuel Tanks; and fourteen (14) AN/ASQ-228 ATFLIR Systems. Also included in the sale are ARC-210 radio (aircraft); Identification Friend or Foe (IFF) systems; AN/AVS-9 Night Vision Goggles (NVG); Launchers (LAU- 115D/A, LAU-116B/A, LAU-l 18A); Command Launch Computer (CLC) for Air to Ground Missile 88 (AGM-88); ANAV/MAGR GPS Navigation; Joint Mission Planning System (JMPS); aircraft spares; Aircraft Armament Equipment (AAE); support equipment; aircrew/maintenance training; contractor engineering technical service; logistics technical services; engineering technical services; other technical assistance; contractor logistics support; flight test services; storage and preservation; aircraft ferry; Repair of Repairable (RoR); support systems and associated logistics; training aides and devices; spares; technical data Engineering Change Proposals; avionics software support; software; technical publications; engineering and program support; U.S. Government and contractor engineering; technical and logistic support services. The estimated total program cost is $10.1 billion.

This proposed sale will contribute to the foreign policy and national security of the United States by helping to improve the security of a Major Non-NATO Ally that has been, and continues to be, an important force for political and economic progress in the Middle East. Kuwait is a strategic partner in maintaining stability in the region. The acquisition of the F/A-18E/F Super Hornet aircraft will allow for greater interoperability with U.S. forces, providing benefits for training and possible future coalition operations in support of shared regional security objectives.

The proposed sale of the F/A- l8E/F Super Hornet aircraft will improve Kuwait's capability to meet current and future warfare threats. Kuwait will use the enhanced capability to strengthen its homeland defense. The F/A-18E/F Super Hornet aircraft will supplement and eventually replace the Kuwait Air Force's aging fighter aircraft. Kuwait will have no difficulty absorbing this aircraft into its armed forces.

The proposed sale of this equipment and support will not alter the basic military balance in the region.

The prime contractors will be The Boeing Company, St. Louis, Missouri; Northrop Grumman in Los Angeles, California; Raytheon Company in El Segundo, California; and General Electric in Lynn, Massachusetts. Offsets agreements associated with this proposed sale are expected; however, specific agreements are undetermined and will be defined during negotiations between the purchaser and contractor. Kuwait requires contractors to satisfy an offset obligation equal to 35 percent of the main contract purchase price for any sale of defense articles in excess of three million Kuwait Dinar, (approximately $10 million USD).

Implementation of this proposed sale will require the assignment of contractor representatives to Kuwait on an intermittent basis over the life of the case to support delivery of the F/A-18E/F Super Hornet aircraft and provide support and equipment familiarization.

There will be no adverse impact on U.S. defense readiness as a result of this proposed sale.

Transmittal No. 16-21

Notice of Proposed Issuance of Letter of Offer Pursuant to Section 36(b)(l) of the Arms Export Control Act

Annex

Item No. vii

(vii) Sensitivity of Technology:

1. The F/A-18E/F Super Hornet is a single and two-seat, twin-engine, multi-mission fighter/attack aircraft that can operate from either aircraft carriers or land bases. The F/A-18 fills a variety of roles: air superiority, fighter escort, suppression of enemy air defenses, reconnaissance, forward air control, close and deep air support, and day and night strike missions. The F/A-18E/F Weapons System is classified SECRET.

2. The AN/APO-79 Active Electronically Scanned Array (AESA) Radar System is classified SECRET. The radar provides the F/A-18 aircraft with all-weather, multi-mission capability for performing air-to-air and air-to-ground targeting and attack. Air-to-air modes provide the capability for all-aspect target detection, long-range search and track, automatic target acquisition, and tracking of multiple targets. Air-to-surface attack modes provide high-resolution ground mapping navigation, weapon delivery, and sensor cueing. The system component hardware (Antenna, Transmitter, Radar Data Processor, and Power Supply) is UNCLASSIFIED. The Receiver-Exciter hardware is CONFIDENTIAL. The radar Operational Flight Program (OFP) is classified SECRET. Documentation provided with the AN/APO-79 radar set is classified SECRET.

3. The AN/ALR-67(V)3 Electric Warfare Countermeasures Receiving Set is classified CONFIDENTIAL. The AN/ALR-67(V)3 provides the F/A-18F aircrew with radar threat warnings by detecting and evaluating friendly and hostile radar frequency threat emitters and providing identification and status information about the emitters to on-board Electronic Warfare (EW) equipment and the aircrew. The OFP and User Data Files (UDF) used in the AN/ALR- 67(V)3 are classified SECRET. Those software programs contain threat parametric data used to identify and establish priority of detected radar emitters.

4. The AN/ALE-47 Countermeasures Dispensing System is classified SECRET. The AN/ALE-47 is a threat-adaptive dispensing system that dispenses chaff, flares, and expendable jammers for self-protection against airborne and ground-based Radio Frequency and Infrared threats. The AN/ALE-47 Programmer is classified CONFIDENTIAL. The OPP and Mission Data Files used in the AN/ALE-47 are classified SECRET. Those software programs contain algorithms used to calculate the best defense against specific threats.

5. The AN/ALQ-214 is an advanced air-borne Integrated Defensive Electronic Countermeasures (IDECM) programmable modular automated system capable of intercepting, identifying, processing received radar signals (pulsed and continuous) and applying an optimum countermeasures technique in the direction of the radar signal, thereby improving individual aircraft probability of survival from a variety of surface-to-air and air-to-air RF threats. The ALQ- 214 was designed to operate in a high-density Electromagnetic Hostile Environment with the ability to identify and counter a wide variety of multiple threats, including those with Doppler characteristics. Hardware within the AN/ALQ-214 is classified CONFIDENTIAL.

6. The Identification Friend or Foe (IFF) Combined Interrogator/Transponder (CIT) with the Conformal Antenna System (CAS) is classified SECRET. The CIT is a complete MARK-XIIA identification system compatible with (IFF) Modes l, 2, 3/A, C4 and 5 (secure).

7. The Joint Helmet Mounted Cueing System (JHMCS) is a modified HGU-55/P helmet that incorporates a visor-projected Heads-Up Display (HUD) to cue weapons and aircraft sensors to air and ground targets. In close combat, a pilot must currently align the aircraft to shoot at a target. JHMCS allows the pilot to simply look at a target to shoot Hardware is UNCLASSIFIED; technical data and documents are classified up to SECRET.

8. The AN/AAQ-33 SNIPER Pod is a multi-sensor, electro-optical targeting pod incorporating infrared, low-light television camera, laser range-finder/target designator, and laser spot tracker. It is used to provide navigation and targeting for military aircraft in adverse weather and using precision-guided weapons such as laser-guided bombs. It offers much greater target resolution and imagery accuracy than previous systems. The AN/AAQ-33 is UNCLASSIFIED.

9. The Joint Mission Planning System (JMPS) is SECRET. JMPS will provide mission planning capability for support of military aviation operations. The JMPS will be tailored to the specific releasable configuration for the F/A-18 Super Hornet.

10. The AN/AVS-9 NVG is a 3rd generation aviation NVG offering higher resolution, high gain, and photo response to near infrared. Hardware is UNCLASSIFIED, and technical data and documentation to be provided are UNCLASSIFIED.

11. The AN/ALE-55 towed decoy improves aircraft survivability by providing an enhanced, coordinated onboard/off-board countermeasure response to enemy threats. When threat libraries are installed, the AN/ALE-55 is classified SECRET.

12. Link-16 is a secure data and voice communication network. The system provides enhanced situational communication awareness, positive identification of participants within the network, secure fighter-to-fighter connectivity, and secure voice capability. It can be classified up to CONFIDENTIAL.

13. The LAU-127E/A Guided Missile Launchers is designed to enable F/A-18 aircraft to carry and launch missiles. It provides the electrical and mechanical interface between the missile and launch aircraft as well as the two-way data transfer between missile and cockpit controls and displays to support preflight orientation and control circuits to prepare and launch the missile. The LAU-127E/A is UNCLASSIFIED.

14. ANAV Global Positioning System (GPS) is a 24-channel Selective Availability Anti- Spoofing Module (SAASM) based pulse-per-second GPS receiver built for next generation GPS technology.

15. Command Launch Computer (CLC) is an electronics subsystem installed on the airframe to interface with the AGM-88 NBIC HARM Missile. The CLC and associated software package are compatible with all AGM-88 A/B/C missiles. The CLC receives target data from the missile and onboard avionics, processes the data for display to the aircrew to the appropriate display, determines target priority, and collects aircraft data for pre-launch hand-off to the AGM-88 HARM missile.

16. The AN/ASQ-228 Advanced Targeting Forward-Looking Infrared (ATFLIR) is a multi-sensor, electro-optical targeting pod incorporating thermographic camera, low-light television camera, target laser rangefinder/laser designator, and laser spot tracker developed and manufactured by Raytheon. It is used to provide navigation and targeting for military aircraft in adverse weather and using precision-guided munitions such as laser-guided bombs.

17. A determination has been made that the Government of Kuwait, can provide substantially the same degree of protection for the classified and sensitive technology being released as the U.S. Government.

18. This sale is necessary in furtherance of the U.S. foreign policy and national security objectives outlined in the Policy Justification.

19. All defense articles and services listed in this transmittal have been authorized for release and export to the Government of Kuwait.

[FR Doc. 2016-28487 Filed 11-25-16; 8:45 am]

BILLING CODE 5001-06-P